DEPARTMENT OF HEALTH AND HUMAN SERVICES

Centers for Disease Control and Prevention

[30 Day 14-0909]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

CDC Diabetes Prevention Recognition Program (DPRP)—Revision—Division of Diabetes Translation, National Center for Chronic Disease Prevention and Health Promotion (NCCDPHP), Centers for Disease Control and Prevention (CDC).

Background and Brief Description

Evidence from efficacy and effectiveness research studies has shown that lifestyle modifications leading to weight loss and increased physical activity can prevent or delay type 2 diabetes in individuals with prediabetes or those at high risk of developing diabetes. To translate these research findings into practice, section 399V-3 of Public Law 111-148, directed Centers for Disease Control “to determine eligibility of entities to deliver community-based type 2 diabetes prevention services,” monitor and evaluate the services, and provide technical assistance. To this end, CDC's Division of Diabetes Translation (DDT) established and administers the Diabetes Prevention Recognition Program (DPRP), which recognizes organizations that deliver diabetes prevention programs according to requirements set forth in the “Centers for Disease Control and Prevention Recognition Program Standards and Operating Procedures” (DPRP Standards). Two levels of recognition are provided: Pending recognition, for new applicants that have submitted an application and meet eligibility criteria defined by the DPRP Standards, and Full recognition, for programs that have demonstrated effectiveness according to DPRP standards. DDT maintains a public registry of these organizations, which can be used by people at high risk of type 2 diabetes, their health care providers, and health payers to locate organizations that offer DPRP-recognized diabetes prevention programs.

In 2011, CDC received OMB approval to collect information needed to administer the DPRP (CDC Diabetes Prevention Recognition Program, OMB No. 0920-0909, exp. 11/30/2014). Two types of information are collected from organizations seeking DPRP recognition: Application data and evaluation data. The one-time application form can be completed on-line at any time. In addition, organizations submit de-identified process and outcome evaluation data to CDC electronically once per year. The due dates for these submissions are based on organizations' effective dates (the first day of the month following application approval). CDC uses the process and outcome data to monitor and evaluate program effectiveness and to provide targeted technical assistance to applicants.

CDC requests an additional three years of OMB approval to continue collecting the information needed to administer the DPRP. Based on additional translational research, experience with the DPRP from 2011-2014, and feedback from applicants, recognized organizations and stakeholders, CDC plans to revise the DPRP Standards and the associated information collection. A key change relates to incorporation of a new mode of service delivery. Because future programs will be allowed to deliver lifestyle programs in a virtual or electronic mode, DPRP requirements for hour-long sessions and written materials for participants have been dropped. A new program mode data element (in-person, virtual, other) will be added to the DPRP application form to facilitate the identification and evaluation of programs, by mode. This information will also be published in the DPRP registry. Additionally, CDC plans to initiate the following changes in the data elements collected: (1) Add fields, if applicable, for contact information for an additional organizational contact and data preparer to the application form. These additional organization contacts are necessary to facilitate communication in light of a large volume of turnover in recognized organizations and to enable DPRP staff to provide technical assistance directly to the data preparer. (2) Add Participant State [of residence] to the evaluation data. This information will allow DPRP to capture the reach of virtual programs and allow for reporting by state or region. (3) Simplify the codes for Participation Prediabetes Determination by reducing the number of required responses from five to three. (4) Discontinue the collection of the Core Group Code, Location Code, Lifestyle Coach ID, Session Type and Session ID.

Additional changes to the DPRP Standards or DPRP information collection may be requested during the period of the Revision request, as CDC continues discussions with recognized programs and potential applicants and reviews results from ongoing studies.

During the period of this Revision, CDC estimates receipt of approximately 350 DPRP application forms per year. The estimated burden per response is one hour. In addition, CDC estimates receipt of annual evaluation data submissions from 1,200 organizations. Evaluation data will be received from a mix of new DPRP applicant organizations as well as previous applicants whose performance is being assessed for compliance with the DPRP Standards. The estimated burden per response is one hour. The estimated burden per response is modest since the information requested for DPRP recognition is routinely collected by most organizations that deliver lifestyle programs. Participation in the DPRP is voluntary, and there are no costs to respondents other than their time. The total estimated annualized burden hours are 1,550.

Estimated Annualized Burden Hours
Type of respondent | Form name | Number of respondents | Number of responses per respondent | Average burden per response (in hr)
Public sector organizations that deliver type 2 diabetes prevention programs | DPRP Application Form DPRP Evaluation Data | 140 480 | 1 1 | 1 1
Private sector organizations that deliver type 2 diabetes prevention programs | DPRP Application Form DPRP Evaluation Data | 210 720 | 1 1 | 1 1

Leroy A. Richardson,
Chief, Information Collection Review Office, Office of Scientific Integrity, Office of the Associate Director for Science, Office of the Director, Centers for Disease Control and Prevention.

[FR Doc. 2014-23237 Filed 9-29-14; 8:45 am]

BILLING CODE 4163-18-P